DEPARTMENT OF LABOR

Mine Safety and Health Administration

30 CFR Part 57

RIN 1219-AB29

Diesel Particulate Matter Exposure of Underground Metal and Nonmetal Miners

Correction

In rule document 06-4494 beginning on page 28924 in the issue of Thursday, May 18, 2006, make the following corrections:

1. On page 28976, in the third column, in the last paragraph, in the 10th line, “m³ we expect that” should read “m³, we expect that”.

2. On page 29011, in the first column, in the 15th paragraph, in the fourth line, “Assessment, 34:220-228, 1998” should read “Assessment, American Journal of Industrial Medicine, 34:220-228, 1998”.

[FR Doc. C6-4494 Filed 6-7-06; 8:45 am]

BILLING CODE 1505-01-D

SOCIAL SECURITY ADMINISTRATION

[Social Security Ruling, SSR 06-01p]

Titles II and XVI: Evaluating Cases Involving Tremolite Asbestos-Related Impairments

Correction

In notice document 06-4855 beginning on page 30467 in the issue of Friday, May 26, 2006, make the following corrections:

1. On page 30467, in the second column, in the DATES section “May 25, 2006” should read “May 26, 2006”.

2. On page 30468, in the first column, under the heading Policy Interpretation Ruling, in the paragraph labeled Citations (Authority), in the seventh line, “404.1560-404/1569a” should read “404.1560-404.1569a”.

3. On the same page, in the second column, in the first paragraph, in the eighth line, “exposure” should read “Exposure”.

[FR Doc. C6-4855 Filed 6-7-06; 8:45 am]

BILLING CODE 1505-01-D